DEPARTMENT OF THE TREASURY

Customs Service

Performance Review Board—Appointment of Members

AGENCY: U.S. Customs Service, Department of the Treasury.

ACTION: General notice.

SUMMARY: This notice announces the appointment of the members of the U.S. Customs Service Performance Review Boards (PRB's) in accordance with 5 U.S.C. 4314(c)(4). The purpose of the PRB's is to review performance appraisals for senior executives and to make recommendations to the appointing authority regarding proposed performance ratings, bonuses, and other related personnel actions.

EFFECTIVE DATE: October 1, 2002.

FOR FURTHER INFORMATION CONTACT: Robert M. Smith, Assistant Commissioner, Human Resources Management, U.S. Customs Service, 1300 Pennsylvania Avenue, NW., Room 2.4-A, Washington, DC 20229, Telephone (202) 927-1250.

Background: There are two PRB's in the U.S. Customs Service.

Performance Review Board 1

The purpose of this Board is to review the performance appraisals and proposed related personnel actions for senior executives who report directly to the Deputy Commissioner or the Commissioner of Customs. The members are:

Donnie A. Carter, Deputy Assistant Director, Recruitment and Hiring, Bureau of Alcohol, Tobacco and Firearms, Department of the Treasury.

John C. Dooher, Senior Associate Director, Washington Office, Federal Law Enforcement Training Center, Department of the Treasury.

Carla F. Kidwell, Associate Director for Technology, Bureau of Engraving and Printing, Department of the Treasury.

Kenneth R. Papaj, Deputy Commissioner, Financial Management Service, Department of the Treasury.

Carlton D. Spriggs, Deputy Director, U.S. Secret Service, Department of the Treasury.

Performance Review Board 2

The purpose of this Board is to review the performance appraisals and proposed related personnel actions for all senior executives except those who report directly to the Deputy Commissioner or the Commissioner of Customs. The members are:

Assistant Commissioners:

Jayson P. Ahern, Field Operations.

Marjorie L. Budd, Training and Development.

S.W. Hall, Information and Technology/CIO.

William A. Keefer, Internal Affairs.

Dennis H. Murphy, Public Affairs.

Nicole R. Nason, Congressional Affairs.

Susan J. Rabern, Finance/CFO.

Donald K. Shruhan, International Affairs.

Michael T. Schmitz, Regulations and Rulings.

Robert M. Smith, Human Resources Management.

Deborah J. Spero, Strategic Trade.

John C. Varrone, Investigations.

Dated: September 13, 2002.
Robert C. Bonner,
Commissioner of Customs.

[FR Doc. 02-25381 Filed 10-4-02; 8:45 am]

BILLING CODE 4820-02-P